DEPARTMENT OF HOMELAND SECURITY

Federal Emergency Management Agency

[Docket ID: FEMA-2013-0014; OMB No. 1660-0105]

Agency Information Collection Activities; Proposed Collection; Comment Request: Community Preparedness and Participation Survey

AGENCY: Federal Emergency Management Agency, DHS.

ACTION: Notice.

SUMMARY: The Federal Emergency Management Agency, as part of its continuing effort to reduce paperwork and respondent burden, invites the general public and other Federal agencies to comment on a revision of a currently approved collection for which approval expires on July 31, 2013. In accordance with the Paperwork Reduction Act of 1995, this notice seeks comments concerning the FEMA Community Preparedness and Participation Survey used to identify progress and gaps in citizen and community preparedness.

DATES: Comments must be submitted on or before June 21, 2013.

ADDRESSES: To avoid duplicate submissions to the docket, please use only one of the following means to submit comments:

(1) Online. Submit comments at www.regulations.gov under Docket ID FEMA-2013-0014. Follow the instructions for submitting comments.

(2) Mail. Submit written comments to Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Timothy Chad Stover, Program Specialist, Individual and Community Preparedness Division at 202-786-9860 for additional information. You may contact the Records Management Division for copies of the proposed collection of information at facsimile number (202) 646-3347 or email address: FEMA-Information-Collections-Management@dhs.gov.

SUPPLEMENTARY INFORMATION: The Community Preparedness and Participation Survey measures the public's participation in individual and community preparedness activities in accordance with direction in Executive Order 13254 to study and track the progress of public service programs. Citizen Corps was launched as a Presidential Initiative, on January 29, 2002, with a mission to bring together government and community leaders to involve citizens in all-hazards emergency preparedness and resilience. In order to fulfill its mission, the Federal Emergency Management Agency (FEMA) Individual and Community Preparedness Division (ICPD) will collect preparedness information from the public via a telephone survey. Individuals are interviewed and asked to respond to a series of survey questions. This collection of information, which began in 2007, is necessary to increase the effectiveness of awareness and recruitment campaigns, messaging and public information, community outreach efforts, and strategic planning initiatives.

Collection of Information

Title: Community Preparedness and Participation Survey.

Type of Information Collection: Revision of a currently approved collection.

FEMA Forms: FEMA Form 008-0-15, Community Preparedness Participation Survey.

Abstract: The Individual and Community Preparedness Division uses this information to more effectively improve the state of preparedness and participation from the general public by customizing preparedness education and training programs, messaging and public information efforts, and strategic planning initiatives.

Affected Public: Individuals or households.

Number of Respondents: 6,000 respondents.

Number of Responses: 6,000.

Estimated Total Annual Burden Hours: 3,000.

Estimated Cost: There are no record keeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 10, 2013.
Charlene D. Myrthil,
Director, Records Management Division, Mission Support Bureau, Federal Emergency Management Agency, Department of Homeland Security.

[FR Doc. 2013-09398 Filed 4-19-13; 8:45 am]

BILLING CODE 9111-27-P